INTERNATIONAL TRADE COMMISSION

[Investigation Nos. 701-TA-382 and 731-TA-800, 801, and 803 (Third Review)]

Stainless Steel Sheet and Strip From Japan, Korea, and Taiwan; Determinations

On the basis of the record ¹ developed in the subject five-year reviews, the United States International Trade Commission (“Commission”) determines, pursuant to the Tariff Act of 1930 (“the Act”), that revocation of the countervailing duty order on imports of stainless steel sheet and strip from Korea and the antidumping duty orders on imports of stainless steel sheet and strip from Japan, Korea, and Taiwan would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on July 1, 2016 (81 FR 43238) and determined on October 4, 2016 that it would conduct full reviews (81 FR 71533, October 17, 2016). Notice of the scheduling of the Commission's review and of a public hearing to be held in connection therewith was given by posting copies of the notice in the Office of the Secretary, U.S. International Trade Commission, Washington, DC, and by publishing the notice in the Federal Register on March 7, 2017 (82 FR 12843). The hearing was held in Washington, DC, on July 25, 2017, and all persons who requested the opportunity were permitted to appear in person or by counsel.

The Commission made these determinations pursuant to section 751(c) of the Act (19 U.S.C. 1675(c)). It completed and filed its determinations in these reviews on September 20, 2017. The views of the Commission are contained in USITC Publication 4725 (September 2017), entitled Stainless Steel Sheet and Strip from Japan, Korea, and Taiwan: Investigation Nos. 701-TA-382 and 731-TA-800, 801, and 803 (Third Review).

By order of the Commission.
Issued: September 20, 2017.
Lisa R. Barton,
Secretary to the Commission.

[FR Doc. 2017-20501 Filed 9-25-17; 8:45 am]

BILLING CODE 7020-02-P